COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete services previously furnished by nonprofit agencies employing persons who are blind or have other severe disabilities.

DATES: Comments must be received on or before: February 9, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following services are proposed for deletion from the Procurement List:

Services

Service Type: Operation of Postal Service Center

Mandatory for: Fort Riley, 802 Marshall Loop, Fort Riley, KS

Mandatory Source of Supply: Skookum Educational Programs, Bremerton, WA

Contracting Activity: Dept of the Army, W6QM MICC-FT Riley

Service Type: Janitorial/Custodial

Mandatory for: Department of Veterans Affairs, VA Outpatient Clinic, 104 Alex Lane, Charleston, WV

Mandatory Source of Supply: Goodwill Industries of Kanawha Valley, Charleston, WV

Contracting Activity: Veterans Affairs, Department of, 581-Huntington

Service Type: Administrative Services

Mandatory for: Office of the U.S. Trade Representative, 1724 F Street NW, and 600 17th Street NW, Washington, DC

Mandatory Source of Supply: ServiceSource, Inc., Oakton, VA

Contracting Activity: Executive Office of the President, Executive Office of the President

Service Type: Central Facility Management

Mandatory for: Social Security Administration: Trust Fund Building, 50 North 3rd Street, Chambersburg, PA

Mandatory Source of Supply: Goodwill Services, Inc., Harrisburg, PA

Contracting Activity: General Services Administration, FPDS Agency Coordinator

Service Type: Janitorial/Custodial

Mandatory for: National Park Service: Gateway National Recreational Area, Building 210, Staten Island, NY

Mandatory Source of Supply: Fedcap Rehabilitation Services, Inc., New York, NY

Contracting Activity: General Services Administration, FPDS Agency Coordinator

Service Type: Janitorial/Custodial

Mandatory for: Veterans Outreach Center: 954 Penn Avenue, Pittsburgh, PA

Mandatory Source of Supply: ACHIEVA Support, Pittsburgh, PA

Contracting Activity: Veterans Affairs, Department of, NAC

Service Type: Cutting and Assembly

Mandatory for: Robins Air Force Base, GA

Mandatory Source of Supply: Middle Georgia Diversified Industries, Inc., Dublin, GA

Contracting Activity: Dept of the Air Force, FA8501 AFSC PZIO

Service Type: Duplication of Official Use Documents

Mandatory for: Government Printing Office: 710 North Capitol & H Street NW, Washington, DC

Mandatory Source of Supply: Alliance, Inc., Baltimore, MD

Contracting Activity: Government Printing Office

Patricia Briscoe,
Deputy Director, Business Operations (Pricing and Information Management).

[FR Doc. 2020-00211 Filed 1-9-20; 8:45 am]

BILLING CODE 6353-01-P